FEDERAL COMMUNICATIONS COMMISSION

[DA 12-1433]

Open Internet Advisory Committee

AGENCY: Federal Communications Commission.

ACTION: Notice.

SUMMARY: The Commission announces the next meeting date, time, and agenda of the Open Internet Advisory Committee (Committee). The Committee was established to track and evaluate the effects of the Commission's Open Internet rules, and to provide any recommendations it deems appropriate to the Commission regarding policies and practices related to preserving the open Internet. The Committee will observe market developments regarding the freedom and openness of the Internet and will focus in particular on issues addressed in the Commission's Open Internet rules, such as transparency, reasonable network management practices, differences in treatment of fixed and mobile broadband services, specialized services, and technical standards.

DATES: The next meeting of the Committee will take place on Tuesday, October 9, 2012, 10:00 a.m. to 12:00 p.m., at Milstein West A at the Wasserstein Hall/Caspersen Student Center, Harvard Law School, 1585 Massachusetts Avenue, Cambridge, MA 02138.

FOR FURTHER INFORMATION CONTACT: Daniel Kirschner, Office of General Counsel, (202) 418-1735, or email Daniel.Kirschner@fcc.gov; or Deborah Broderson, Consumer and Governmental Affairs Bureau, (202) 418-0652, or email at Deborah.Broderson@fcc.gov.

SUPPLEMENTARY INFORMATION: This is a summary of the Commission's document DA 12-1433, released August 31, 2012, announcing the agenda, date and time of the Committee's next meeting.

At its October 9, 2012 meeting, it is expected that the Committee will consider issues related to the subject areas of its four working groups—Mobile Broadband, Economic Impacts of Open Internet Frameworks, Specialized Services, and Transparency—as well as other open Internet related issues. A limited amount of time will be available on the agenda for comments from the public. Alternatively, members of the public may send written comments to: Daniel Kirschner, Designated Federal Officer of the Committee, or Deborah Broderson, Deputy Designated Federal Officer, at the address provided above.

The meeting is open to the public and the site is fully accessible to people using wheelchairs or other mobility aids. Open captioning will be provided for this event. Other reasonable accommodations for people with disabilities are available upon request. Requests for such accommodations should be submitted via email to fcc504@fcc.gov or by calling the Consumer and Governmental Affairs Bureau at (202) 418-0530 (voice), (202) 418-0432 (TTY). Such requests should include a detailed description of the accommodation needed. In addition, please include your contact information. Please allow at least five days advance notice; last minute requests will be accepted, but may be impossible to fill. The meeting of the Committee will also be broadcast live with open captioning over the Internet at http://cyber.law.harvard.edu/events/2012/10.oiac.

Federal Communications Commission.
Kris Anne Monteith,
Acting Chief, Consumer and Governmental Affairs Bureau.

[FR Doc. 2012-22755 Filed 9-14-12; 8:45 am]

BILLING CODE 6712-01-P